DEPARTMENT OF DEFENSE

Office of the Secretary

[Transmittal Nos. 12-21]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-21 with attached transmittal, policy justification, and Sensitivity of Technology.

Dated: May 22, 2012.
Aaron Siegel,
Alternate OSD Federal Register Liaison Officer, Department of Defense.

BILLING CODE 5001-06-P

BILLING CODE 5001-06-C

Transmittal No. 12-21

Notice of Proposed Issuance of Letter of Offer Pursuant to Section 36(b)(1) of the Arms Export Control Act, as Amended

(i) Prospective Purchaser: Republic of Korea.

(ii) Total Estimated Value:

Major Defense Equipment * | $ .600 billion.
Other | .400 billion.
Total | 1.000 billion.
* as defined in Section 47(6) of the Arms Export Control Act.

(iii) Description and Quantity or Quantities of Articles or Services under Consideration for Purchase: 8 MH-60R SEAHAWK Multi-Mission Helicopters, 18 T-700 GE 401C Engines (16 installed and 2 spares), communication equipment, electronic warfare systems, support equipment, spare engine containers, spare and repair parts, tools and test equipment, technical data and publications, personnel training and training equipment, U.S. government and contractor engineering, technical, and logistics support services, and other related elements of logistics and program support.

(iv) Military Department: Navy (SDY).

(v) Prior Related Cases, if any: None.

(vi) Sales Commission, Fee, etc., Paid, Offered, or Agreed to be Paid: None.

(vii) Sensitivity of Technology Contained in the Defense Article or Defense Services Proposed to be Sold: See Annex attached.

(viii) Date Report Delivered to Congress: May 16, 2012.

Policy Justification

Korea—MH-60R SEAHAWK Multi-Mission Helicopters

The Government of the Republic of Korea has requested a possible sale of 8 MH-60R SEAHAWK Multi-Mission Helicopters, 18 T-700 GE 401C Engines (16 installed and 2 spares), communication equipment, electronic warfare systems, support equipment, spare engine containers, spare and repair parts, tools and test equipment, technical data and publications, personnel training and training equipment, U.S. government and contractor engineering, technical, and logistics support services, and other related elements of logistics and program support. The estimated cost is $1.0 billion.

The Government of the Republic of Korea is one of the major political and economic powers in East Asia and the Western Pacific and a key partner of the United States in ensuring peace and stability in that region. It is vital to the U.S. national interest to assist our Korean ally in developing and maintaining a strong and ready self-defense capability, which will contribute to an acceptable military balance in the area. This proposed sale is consistent with those objectives.

The proposed sale of the MH-60R SEAHAWK helicopter will improve South Korea's capability to meet current and future threats from enemy Anti-Surface Warfare (ASW) capabilities. The sale of these MH-60R helicopters will enhance interoperability with U.S. Naval forces, and add to the military stability of the region. Korea will have no difficulty absorbing these helicopters into its armed forces.

The proposed sale of this system and support will not alter the basic military balance in the region.

The prime contractors will be Sikorsky Aircraft Corporation in Stratford, Connecticut; Lockheed Martin in Owego, New York; and General Electric in Lynn, Massachusetts. There are no offset agreements proposed in connection with this potential sale.

Implementation of this proposed sale will require multiple trips to Korea involving U.S. Government or contractor representatives on a temporary basis for program and technical support, and management oversight.

There will be no adverse impact on U.S. defense readiness as a result of this proposed sale.

Transmittal No. 12-21

Notice of Proposed Issuance of Letter of Offer Pursuant to Section 36(b)(1) of the Arms Export Control Act, as Amended

Annex Item No. vii

(vii) Sensitivity of Technology:

1. The MH-60R SEAHAWK Multi-Mission Helicopter contains new generation technology. It is equipped for a range of missions including: anti-submarine warfare (ASW), anti-surface warfare (ASuW), search and rescue (SAR), naval gunfire support, surveillance, communications relay, logistics support, personnel transfer, and vertical replenishment. The navigation suite includes an LN-100G dual embedded global positioning system and inertial navigation system. The helicopter is equipped with a fully digital communications suite with ARC-210 radios for Ultra High Frequency/Very High Frequency voice communications, and an L-3 Communications Ku-band Data Link. The helicopter is fitted with the AN/AAS-44 Multi-Spectral Targeting System (MTS), AN/ALQ-210 electronic support measures system (ESM), and AN/APS-153 Multi-Mode Radar (MMR). The electronic warfare systems include the AN/AAR-47 missile warning system, AN/ALQ-144 infrared jammer, Identify Friend or Foe (IFF) Mode-4 and AN/ALE-47 chaff and flare decoy dispenser. The MH-60R, including the mission equipment, is classified Secret.

2. If a technologically advanced adversary were to obtain knowledge of the specific hardware and software elements, the information could be used to develop countermeasures which might reduce weapons systems effectiveness or be used in the development of a system with similar or advanced capabilities.

[FR Doc. 2012-12837 Filed 5-25-12; 8:45 am]

BILLING CODE 5001-06-P